DEPARTMENT OF HEALTH AND HUMAN SERVICES

Centers for Medicare & Medicaid Services

[Document Identifier: CMS-R-262]

Agency Information Collection Activities: Submission for OMB Review; Comment Request

ACTION: Notice; partial withdrawal.

SUMMARY: On Wednesday, December 13, 2017, the Centers for Medicare & Medicaid Services (CMS) published a notice document entitled, “Agency Information Collection Activities: Submission for OMB Review; Comment Request”. That notice invited public comments on two separate information collection requests, under Document Identifiers: CMS-R-262 and CMS-10398. Through the publication of this document, we are withdrawing the portion of the notice requesting public comment on the information collection request titled, “Contract Year 2019 Plan Benefit Package (PBP) Software and Formulary Submission.” The associated form number is CMS-R-262 (OMB control number: 0938-0763). The comment period for CMS-10398 (OMB control number: 0938-1148) titled, “Generic Clearance for Medicaid and CHIP State Plan, Waiver, and Program Submissions” remains in effect and ends on January 12, 2018.

Dated: December 19, 2017.
William N. Parham, III,
Director, Paperwork Reduction Staff, Office of Strategic Operations and Regulatory Affairs.

[FR Doc. 2017-27606 Filed 12-21-17; 8:45 am]

BILLING CODE 4120-01-P